DEPARTMENT OF TRANSPORTATION

Federal Aviation Administration

14 CFR Parts 91, 93, 121, and 135

[Docket No. 28537; Amendment Nos. 91-260, 93-79, 121-272, 135-74

RIN 2120-AG97

Special Flight Rules in the Vicinity of Grand Canyon National Park

AGENCY: Federal Aviation Administration (FAA), DOT.

ACTION: Final rule; request for comments.

SUMMARY: On December 31, 1996, the FAA published a final rule, Special Flight Rules in the Vicinity of Grand Canyon National Park. That final rule codified the provisions of Special Federal Aviation Regulation (SFAR) No. 50-2, Special Flight Rules in the Vicinity of Grand Canyon National Park (GCNP); modified the dimensions of the GCNP Special Flight Rules Area (SFRA); established new and modified existing flight-free zones; established new and modified existing flight corridors; established reporting requirements for commercial sightseeing air carriers operating in the SFRA; prohibited commercial sightseeing operations during certain time periods; and limited the number of aircraft that can be used for commercial sightseeing operations in the SFRA. In February 1997 the FAA delayed the effective date for the new and modified flight-free zones, SFRA modification, and corridors portion of the final rule and reinstated portions of and amended the expiration date of SFAR No. 50-2. However, that action did not affect or delay the implementation of the curfew, aircraft limitations, reporting requirements, or other portions of the rule. That extension was subsequently extended until January 31, 2000. This action further delays the effective date for the flight-free zones, SFRA modification, and corridors portions of the December 31, 19996, final rule until January 31, 20001, and amends the expiration date of SFAR 50-2 until the FAA issues new regulations to substantially restore natural quite in GCNP.

EFFECTIVE DATE: The effective date of January 31, 2000, for 14 CFR 93.301, 93.305, and 93.307 is delayed until 0900 UTC January 31, 2001. Section 9 of SFAR No. 50-2 is amended effective January 31, 2000. Comments on this action must be received on or before March 6, 2000.

ADDRESSES: Comments on this final rule should be mailed in triplicate to: Department of Transportation Dockets, Docket No. [FAA 00- ], 400 Seventh Street, SW., Washington, DC 2059. Comments may be filed or examined in the Plaza Room 401 on weekdays, except on Federal holidays, between 10:00 a.m. and 5:00 p.m. Comments also may be sent electronically to the Rules Docket by using the following Internet address: http://dms.dot.gov.

FOR FURTHER INFORMATION CONTACT: Mr. Reginald C. Matthews, Manager, Airspace and Rules Division, ATA-400, Office of Air Traffic Airspace Management, Federal Aviation Administration, 800 Independence Avenue, SW., Washington, DC 20591; Telephone: (202) 267-8783.

SUPPLEMENTARY INFORMATION:

Request for Comments on the Rule

Although this action is a final rule, and was not preceded by notice and public procedure, comments are invited. This rule will become effective on the date specified in the DATES section. Comments that provide the factual basis supporting the views and suggestions presented are particularly helpful in evaluating the effects of the rule, and in determining whether additional rulemaking is required.

Background

On December 31, 1996, the FAA published three concurrent actions (a final rule, a Notice of Proposed Rulemaking, and a Notice of Availability of Proposed Commercial Air Tour Routes) in the Federal Register (62 FR 69310). These actions were part of an overall strategy to reduce further the impact of aircraft noise on the GCNP environment and to assist the National Park Service (NPS) in achieving its statutory mandate imposed by Public Law (Pub. L.) No 100-91 to substantially restore natural quiet in GCNP. The final rule amended part 93 of the Code of Federal Regulations and added a new subpart to codify the provisions of SFAR No. 50-2, modified the dimensions of the GCNP SFRA; established new and modified existing flight-free zones; established new and modified existing flight corridors; and established reporting requirements for commercial sightseeing air carriers operating in the Special Flight Rules Area. In addition, to provide further protection for park resources, the final rule prohibited commercial sightseeing operations in the Zuni Point and Dragon corridors during certain time periods, and placed a temporary limit on the number of aircraft that can be used for commercial sightseeing operations in the GCNP SFRA. These provisions originally were to become effective on May 1, 1997.

On February 21, 1997, the FAA issued a final rule that delayed the implementation of certain sections of the final rule (62 FR 8862; February 26, 1997). Specifically, this action delayed the implementation date, until January 31, 1998, of those sections of the rule that address the SFRA, flight-free zones, and flight corridors, respectively sections 93.301, 93.305, and 93.307. In addition, certain portions of SFAR No. 50-2 were reinstated, and the expiration date was extended. This implementation date was again delayed until January 31, 1999 (62 FR 66248; December 17, 1997). The FAA further delayed the implementation date until January 31, 2000 (64 FR 5152; February 3, 1999).

In a continuing effort to assist the NPS in fulfilling the mandate of Pub. L. 100-91 in the substantial restoration of natural quiet in GCNP, the FAA issued two proposed rules in July 1999. One proposed airspace modifications that would accommodate a new route structure; the other proposed a limitation of commercial air tour operations in the SFRA. In addition, a notice of availability made available maps depicting the new route structure.

The FAA is now in the process of finalizing these regulations. However, these final rules will not be issued until after January 31, 2000. Under these conditions, the FAA finds that there is sufficient justification under 5 U.S.C. 553(b) to issue this rule without notice and prior opportunity for comment.

Economic Evaluation

In issuing the final rule for Special Flight Rules in the Vicinity of the GCNP, the FAA prepared a cost benefit analysis of the rule. A copy of the regulatory evaluation is located in docket No. 28537. That economic evaluation was later revised in a Notice of Clarification (62 FR 58898). In the notice, the FAA concluded that the rule is still cost beneficial. This extension of the effective date for the final rule will not affect that reevaluation, although the delay in the implementation of the extended FFZs will be cost relieving.

The FAA has determined that this regulation imposes no additional burden on any person. Accordingly, it determines that this action (1) is not a significant action under Executive Order 12866; and (2) is not a significant action under Department of Transportation Regulatory Policy and Procedures (44 FR 11034; February 26, 1979). In addition, the FAA certifies that this action will not have a significant economic impact on a substantial number of small entities under the criteria of the Regulatory Flexibility Act.

Regulatory Flexibility Analysis

As required by the Regulatory Flexibility Act of 1980, as amended, the FAA completed a final regulatory flexibility analysis of the final rule. This analysis was also reevaluated and revised findings were published in the Notice of Clarification referenced above, as a Supplemental Regulatory Flexibility Analysis. This extended delay of the compliance date will not affect that supplemental analysis.

Unfunded Mandates Assessment

Title II of the Unfunded Mandates Reform Act of 1995 (the Act), enacted as Public Law 104-4 on March 22, 1995, requires each Federal agency, to the extent permitted by law, to prepare a written assessment of the effects of any Federal mandate in a proposed or final agency rule that may result in the expenditure of $100 million or more (when adjusted annually for inflation) in any one year by State, local, and tribal governments in the aggregate, or by the private sector. Section 204(a) of the Act, 2 U.S.C. 1534(a), requires the Federal agency to develop an effective process to permit timely input by elected officers (or their designees) of State, local, and tribal governments on a proposed “significant intergovernmental mandate.” A “significant intergovernmental mandate” under the Act is any provision in a Federal agency regulation that would impose an enforceable duty upon State, local, and tribal governments in the aggregate of $100 million (adjusted annually for inflation) in any one year. Section 203 of the Act, 2 U.S.C. 1533, which supplements section 204(a), provides that, before establishing any regulatory requirements that might significantly or uniquely affect small governments, the agency shall have developed a plan, which, among other things, must provide for notice to potentially affected small governments, if any, and for a meaningful and timely opportunity for these small governments to provide input in the development of regulatory proposals.

This final rule does not contain any Federal intergovernmental or private sector mandates. Therefore, the requirements of Title II of the Unfunded Mandates Reform Act of 1995 do not apply.

Federalism Implications

The FAA has analyzed this amendment under the principles and criteria of Executive Order 13132, Federalism. The FAA has determined that his section will not have a substantial direct effect on the States, on the relationship between the national Government and the States, or on the distribution of power and responsibilities among the various levels of government. Therefore, the FAA has determined that this amendment does not have sufficient federalism implications to warrant the preparation of a Federalism Assessment.

List of Subjects

14 CFR Part 91

Aircraft, Airmen, Air traffic control, Aviation safety, Noise control.

14 CFR Part 93

Air traffic control, Airports, Navigation (Air).

14 CFR Part 121

Aircraft, Airmen, Aviation safety, Charter flights, Safety, Transportation.

14 CFR Part 135

Air taxis, Aircraft, Airmen, Aviation safety.

Adoption of Amendments

Accordingly, the Federal Aviation Administration (FAA) amends 14 CFR parts 91, 93, 121, and 135 as follows:

PART 91—[AMENDED]

1. The authority citation for part 91 continues to read as follows:

Authority: 49 U.S.C. 106(g), 40103, 40113, 40120, 44101, 44111, 44701, 44709, 44711, 44712, 44715, 44716, 44717, 44722, 46306, 46315, 46316, 46502, 46504, 46506-46507, 47122, 47508, 47528-47531.

PART 121—[AMENDED]

2. The authority citation for part 121 continues to read as follows:

Authority: 49 U.S.C. 106(g), 40113, 40119, 44101, 44701-44702, 44705, 44709-44711, 44713, 44716-44717, 44722, 44901, 44903-44904, 44912, 46105.

PART 135—[AMENDED]

3. The authority citation for part 135 continues to read as follows:

Authority: 49 U.S.C. 106(g), 40113, 44701-44702, 44705, 44709, 44711-44713, 44915-44717, 44722.

SFAR No. 50-2 [Amended]

4. In parts 91, 121, and 135, Special Federal Aviation Regulation No. 50-2, Section 9 is revised to read as follows:

SFAR 50-2—Special Flight Rules in the Vicinity of the Grand Canyon National Park, AZ

* * * * *

Section 9. Termination date. Sections 1. Applicability, Section 4, Flight-free zones, and Section 5. Minimum flight altitudes, expire on 0901 UTC, January 31, 2001.

PART 93—SPECIAL AIR TRAFFIC RULES AND AIRPORT TRAFFIC PATTERNS

5. The authority citation for part 93 continues to read as follows:

Authority: 49 U.S.C. 106(g), 40103, 40106, 40109, 40113, 44502, 44514, 44701, 44719, 46301.

The effective date of May 1, 1997, for new Sections 93.301, 93.305, and 93.307 ¹ to be added to 14 CFR Part 93 is delayed until 0901 UTC, January 31, 2001.

¹ Published at 61 FR 69330 (December 31, 1996), corrected at 62 FR 2445 (January 16, 1997), delayed at 62 FR 8862 (February 26, 1997) and 62 FR 66248 (December 17, 1997).

Issued in Washington, DC, on January 28, 2000.
Jane F. Garvey,
Administrator.

[FR Doc. 00-2406 Filed 1-31-00; 4:15pm]

BILLING CODE 4910-13-M